UNITED STATES INSTITUTE OF PEACE

Notice of Meeting

AGENCY: United States Institute of Peace.

Date/Time: Friday, January 9, 2009, 10 a.m.-3:30 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: January 9, 2009 Board Meeting; Approval of Minutes of the One Hundred Thirty-First Meeting (October 16, 2008) of the Board of Directors; Chairman's Report; President's Report; Introduction of the Senior Fellows Slate; Education and Training Center; Other General Issues.

Contact: Tessie F. Higgs, Executive Office, Telephone: (202) 429-3836.

Dated: December 29, 2008.
Michael Graham,
Executive Vice President, United States Institute of Peace.

[FR Doc. E8-31467 Filed 1-7-09; 8:45 am]

BILLING CODE 6820-AR-M